FEDERAL COMMUNICATIONS COMMISSION

[Report No. 2661]

Petitions for Reconsideration of Action in Rulemaking Proceedings

June 23, 2004.

Petitions for Reconsideration have been filed in the Commission's Rulemaking proceedings listed in this Public Notice and published pursuant to 47 CFR 1.429(e). The full text of this document is available for viewing and copying Room CY-B402 12th Street, SW., Washington, DC, or may be purchased from the Commission's copy contractor, Best Copy and Printing, Inc. (BCPI) (1-800-378-3160). Oppositions to these petitions must be filed by July 21, 2004. See § 1.4(b)(1) of the Commission's rules (47 CFR 1.4(b)(1)). Replies to an opposition must be filed within 10 days after the time for filing oppositions have expired.

Subject: Amendment of the FM Table of Allotments (Vinton, Louisiana, Crystal Beach, Lumberton, and Winnie, Texas) (MM Docket No. 02-212, RM-10516, RM-10618).

Number of Petitions Filed: 1.

Subject: Amendment of the FM Table of Allotments (Russellville and Littleville, Alabama) (MB Docket No. 04-12, RM-10834).

Number of Petitions Filed: 1.

Marlene H. Dortch,
Secretary.

[FR Doc. 04-15242 Filed 7-2-04; 8:45 am]

BILLING CODE 6712-01-M